DEPARTMENT OF HEALTH AND HUMAN SERVICES

National Institutes of Health

Office of the Secretary; Notice of Meeting

Pursuant to section 10(a) of the Federal Advisory Committee Act, as amended, notice is hereby given of a meeting of the Interagency Autism Coordinating Committee.

The purpose of the IACC meeting is to discuss business, agency updates, and issues related to autism spectrum disorder (ASD) research and services activities. The meeting will be open to the public for viewing virtually via NIH Videocast. Individuals who plan to view the meeting virtually and need special assistance or other reasonable accommodations to view the meeting should notify the Contact Person listed below at least seven (7) business days in advance of the meeting. The open session can be accessed from the NIH Videocast website (http://videocast.nih.gov/).

Name of Committee: Interagency Autism Coordinating Committee.

Date: January 18, 2023.

Time: 10:00 a.m. to 5:00 p.m.

Meeting Access: https://videocast.nih.gov/watch=48611.

Agenda: To discuss business, updates, and issues related to ASD research and services activities.

Cost: The meeting is free and open to the public.

Registration: A registration web link will be posted on the IACC website (www.iacc.hhs.gov) prior to the meeting. Pre-registration is recommended.

Deadlines:

Written/Virtual Public Comment Due Date: Tuesday, January 10, 2023, by 5:00 p.m. ET Public Comment Guidelines.

For public comment instructions, see below.

Contact Person: Ms. Rebecca Martin, Office of Autism Research Coordination, National Institute of Mental Health, NIH, Phone: 301-435-0886, Email: IACCPublicInquiries@mail.nih.gov.

Public Comments: The IACC welcomes written and virtual public comments from members of the autism community and asks the community to review and adhere to its Public Comment Guidelines.

In the 2016-2017 IACC Strategic Plan, the IACC listed the “Spirit of Collaboration” as one of its core values, stating that, “We will treat others with respect, listen with open minds to the diverse views of people on the autism spectrum and their families, thoughtfully consider community input, and foster discussions where participants can comfortably offer opposing opinions.” In keeping with this core value, the IACC and the NIMH Office of Autism Research Coordination (OARC) ask that members of the public who provide public comments or participate in meetings of the IACC also adhere to this core value.

A limited number of slots are available for individuals to provide a ~3-minute summary or excerpt of their written comment via the virtual platform to the Committee during the meeting. For those interested in that opportunity, please indicate “Interested in providing virtual oral comment” in your written submission, along with your name, address, email, phone number, and professional/organizational affiliation so that OARC staff can contact you if a slot is available for you to provide a summary or excerpt of your comment via the virtual platform during the meeting.

For any given meeting, priority for live virtual comment slots will be given to individuals who have not previously provided live virtual comments in the current calendar year. This will help ensure that as many individuals as possible have an opportunity to share comments. Commenters going over their allotted 3-minute slot may be asked to conclude immediately in order to allow other comments and the rest of the meeting to proceed on schedule.

Public comment submissions received by 5:00 p.m. ET on Tuesday, January 10, 2023, will be provided to the Committee prior to the meeting for their consideration. Any written comments received after 5:00 p.m. ET, Tuesday, January 10, 2023, may be provided to the Committee either before or after the meeting, depending on the volume of comments received and the time required to process them in accordance with privacy regulations and other applicable Federal policies. The Committee is not able to respond individually to comments. All public comments become part of the public record. Attachments of copyrighted publications are not permitted, but web links or citations for any copyrighted works cited may be provided. For public comment guidelines, see: https://iacc.hhs.gov/meetings/public-comments/guidelines/.

Technical issues: If you experience any technical problems with the webcast, please email IACCPublicInquiries@mail.nih.gov.

Disability Accommodations: All IACC Full Committee Meetings provide Closed Captioning through the NIH videocast website. Individuals whose full participation in the meeting will require special accommodations (e.g., sign language or interpreting services, etc.) must submit a request to the Contact Person listed on the notice at least seven (7) business days prior to the meeting. Such requests should include a detailed description of the accommodation needed and a way for the IACC to contact the requester if more information is needed to fill the request. Special requests should be made at least seven (7) business days prior to the meeting; last-minute requests may be made but may not be possible to accommodate.

Additional Information: Information about the IACC is available on the website: http://www.iacc.hhs.gov.

Dated: December 21, 2022.
Melanie J. Pantoja,
Program Analyst, Office of Federal Advisory Committee Policy.

[FR Doc. 2022-28133 Filed 12-23-22; 8:45 am]

BILLING CODE 4140-01-P